FEDERAL COMMUNICATIONS COMMISSION

Information Collections Being Reviewed by the Federal Communications Commission for Extension Under Delegated Authority

AGENCY: Federal Communications Commission.

ACTION: Notice and request for comments.

SUMMARY: As part of its continuing effort to reduce paperwork burdens and as required by the Paperwork Reduction Act of 1995, Public Law 104-13, the Federal Communications Commission invites the general public and other Federal agencies to take this opportunity to comment on the following information collection(s). Comments are requested concerning: Whether the proposed collection of information is necessary for the proper performance of the functions of the Commission, including whether the information shall have practical utility; the accuracy of the Commission's burden estimate; ways to enhance the quality, utility, and clarity of the information collected; ways to minimize the burden of the collection of information on the respondents, including the use of automated collection techniques or other forms of information technology; and ways to further reduce the information burden for small business concerns with fewer than 25 employees. The FCC may not conduct or sponsor a collection of information unless it displays a currently valid control number. No person shall be subject to any penalty for failing to comply with a collection of information subject to the Paperwork Reduction Act (PRA) that does not display a valid control number.

DATES: Persons wishing to comment on this information collection should submit comments by July 13, 2012. If you anticipate that you will be submitting comments, but find it difficult to do so within the period of time allowed by this notice, you should advise the contact listed below as soon as possible.

ADDRESSES: Submit your PRA comments to Nicolas A. Fraser, Office of Management and Budget (OMB), via fax at 202-395-5167, or via the Internet at Nicholas_A._Fraser@omb.eop.gov, and to Judith-B.Herman@fcc.gov, Federal Communications Commission (FCC). To submit your comments by email send them to: PRA@fcc.gov.

FOR FURTHER INFORMATION CONTACT: For additional information about the information collection(s), contact Judith B. Herman at 202-418-0214.

SUPPLEMENTARY INFORMATION:

OMB Control No.: 3060-0910.

Title: Section 20.18(i), Third Report and Order in CC Docket No. 94-102, To Ensure Compatibility With Enhanced 911 Emergency Calling Systems.

Form No.: N/A.

Type of Review: Extension of a currently approved collection.

Respondents: Business or other for-profit and not-for-profit institutions.

Number of Respondents: 1,398 respondents; 1,398 responses.

Estimated Time per Response: 1 hour.

Frequency of Response: On occasion reporting requirement.

Obligation to Respond: Mandatory. Statutory authority for this collection of information is contained in 47 U.S.C. 1, 4(i), 201, 303, 309 and 332.

Total Annual Burden: 1,398 hours.

Annual Cost Burden: N/A.

Privacy Act Impact Assessment: N/A.

Nature and Extent of Confidentiality: There is no need for confidentiality.

Needs and Uses: The Commission is seeking Office of Management and Budget (OMB) approval for an extension of this information collection (no change in the reporting requirement). The Commission will submit this information collection after this 60 day comment period.

The Commission has adjusted its previous burden estimates. The total annual burden has been reduced by 2,602 hours since 2009 because of fewer respondents and responses.

The Third Report and Order in CC Docket No. 94-102, adopted rules applicable to wireless carriers to permit the use of network-based solutions, handset-based solutions, or hybrid solutions. The adopted rules require changes both to handsets and wireless networks in providing caller location information as part of Enhanced 911 (or E911) services. The Commission adopted the Third Report and Order to encourage the deployment of the best location technology for each area being served, promote competition in E911 location technology, and speed implementation of E911.

As part of the rules, the Third Report and Order also adopted a requirement that wireless carriers report their plans for implementing Phase II E911 service to the Commission. Specifically, this report must include the technology they plan to use to provide caller location as well as information to enable public safety organizations, equipment manufacturers, local exchange carriers, and the Commission to plan and support Phase II deployment. The Commission required wireless carriers to file these initial reports in 2000. Carriers are required to update these plans within thirty days of the adoption of any change. The reporting requirements are discussed in detail in 47 CFR 20.18(i).

OMB Control No.: 3060-1004.

Title: Section 20.18(g)(1), Commission Rules to Ensure Compatibility With Enhanced 911 Emergency Calling Systems.

Form No.: N/A.

Type of Review: Extension of a currently approved collection.

Respondents: Business or other for-profit, not-for-profit institutions and state, local or tribal government.

Number of Respondents: 178 respondents; 508 responses.

Estimated Time per Response: 1 hour to 4 hours.

Frequency of Response: Quarterly, semi-annual and one time reporting requirements.

Obligation to Respond: Required to obtain or retain benefits. Statutory authority for this collection of information is contained in 47 U.S.C. 1, 4(i), 201, 303, 309 and 332.

Total Annual Burden: 1,982 hours.

Annual Cost Burden: N/A.

Privacy Act Impact Assessment: N/A.

Nature and Extent of Confidentiality: There is no need for confidentiality.

Needs and Uses: The Commission is seeking Office of Management and Budget (OMB) approval for an extension of this information collection (no change in the reporting requirement). The Commission will submit this information collection after this 60 day comment period. The Commission is reporting an adjustment of 780 total annual hours which is due to industry consolidation. The number of Tier 1 carriers has gone from 22 to 4, and Tier II carriers are estimated from 12 to 3. The number of Tier III carriers has expanded from 50 to 110. These changes in the marketplace caused the Commission to adjust the estimates which also accounts for the change in hourly burden.

Distinct from the Commission's rules and precedent regarding waivers of the E911 requirements, in December 2004 Congress enacted the Ensuring Needed Help Arrives Near Callers Employing 911 Act of 2004 (ENHANCE 911 Act). The ENHANCE 911 Act, inter alia, directs the Commission to act on any petition filed by a qualified Tier III carrier requesting a waiver of 47 CFR 20.18(g)(1)(v) within 100 days of receipt, and grant such request for waiver if “strict enforcement of the requirements of that section would result in consumers having decreased access to emergency services.”

The Commission originally established reporting requirements in an order released in October 2001 which received OMB approval. Nationwide wireless carriers (“Tier 1”) generally must file quarterly reports with the Commission on February 1, May 1, August 1 and November 1 of each year, with the exception of T-Mobile, which is required to file semi-annual reports (as of October 2002). Mid-sized carriers (“Tier II”) also were required to file quarterly reports under this same time schedule.

In a July 2003 revision approved by OMB, the Commission decided that the information requirements in the quarterly reports, beginning with the August 1, 2003 filing, be submitted with an Excel spreadsheet as an appendix to Tier I and Tier II carrier narrative reports. The existing information collection only required Tier III carriers to file a one-time interim report. Tier III wireless carriers were also not required to submit an Excel spreadsheet with their one-time filings.

This reporting requirement was further revised in 2005 because on October 21, 2005, the Commission adopted an order finding that certain Tier III carriers did not sufficiently support their requests for waiver of the E911 rules, but providing the carriers with additional time, until July 2006, to augment the record to show a clear path to full compliance with the E911 requirements. The Commission also imposed conditions and required the Tier III carriers to file separate status reports by November 21, 2005, and commencing February 1, 2006, additional status reports on a quarterly basis for a two-year period.

The Commission will use the information submitted by Tier III carriers subject to reporting requirements to ensure that they comply with the Commission's E911 requirements and the terms of the underlying orders addressing requests for waiver relief by all Tiers.

OMB Control No.: 3060-0790.

Title: Section 68.110(c), Availability of Inside Wiring Information.

Form No.: N/A.

Type of Review: Extension of a currently approved collection.

Respondents: Business or other for-profit.

Number of Respondents: 200 respondents; 1,200 responses.

Estimated Time per Response: 1 hour.

Frequency of Response: Recordkeeping requirement and third party disclosure requirement.

Obligation to Respond: Mandatory. Statutory authority for this collection of information is contained in 47 U.S.C. 151, 154, 201-205, 218, 220 and 405 of the Communications Act of 1934, as amended.

Total Annual Burden: 1,200 hours.

Annual Cost Burden: $5,000.

Privacy Act Impact Assessment: N/A.

Nature and Extent of Confidentiality: There is no need for confidentiality. The Commission is not requesting that respondents submit any confidential trade secrets or proprietary information to the FCC.

Needs and Uses: The Commission is seeking Office of Management and Budget (OMB) approval for an extension of this information collection (no change in the recordkeeping and/or third party disclosure requirements). The Commission will submit this information collection after this 60 day comment period to the OMB.

Section 68.110(c) requires that any available technical information concerning carrier-installed wiring on the customer's side of the demarcation point, including copies of existing schematic diagrams and service records, shall be provided by the telephone company upon request of the building owner or agent thereof. The provider of wireline telecommunications services may charge the building owner a reasonable fee for this service, which shall not exceed the cost involved in locating and copying the documents. In the alternative, the provider may make these documents available for review and copying by the building owner or his agent. In this case, the wireline telecommunications carrier may charge a reasonable fee, which shall not exceed the cost involved in making the documents available, and may also require the building owner or his agent to pay a deposit to guarantee the documents' return.

The information is needed so that building owners may choose to contract with an installer of their choice on inside wiring maintenance and installation services to modify existing wiring or assist with the installation of additional inside wiring.

OMB Control No.: 3060-0791.

Title: Section 32.7300, Accounting for Judgments and Other Costs Associated with Litigation.

Form No.: N/A.

Type of Review: Extension of a currently approved collection.

Respondents: Business or other for-profit.

Number of Respondents: 2 respondents; 2 responses.

Estimated Time per Response: 4 to 36 hours.

Frequency of Response: On occasion reporting requirement and recordkeeping requirement.

Obligation to Respond: Required to obtain or retain benefits. Statutory authority for this collection of information is contained in 47 U.S.C. 151, 152, 154, 161, 201-205 and 218-220 of the Communications Act of 1934, as amended.

Total Annual Burden: 40 hours.

Annual Cost Burden: N/A.

Privacy Act Impact Assessment: N/A.

Nature and Extent of Confidentiality: There is no need for confidentiality. The Commission is not requesting that respondents submit confidential information to the FCC.

Needs and Uses: The Commission is seeking Office of Management and Budget (OMB) approval for an extension of this information collection (no change in the recordkeeping and/or reporting requirements). The Commission will submit this information collection after this 60 day comment period to the OMB.

The Commission adopted accounting rules that require carriers to account for adverse federal antitrust judgments and post-judgment special charges. With regard to settlements of such lawsuits there will be a presumption that carriers can recover the portion of the settlement that represents the avoidable costs of litigation; provided that the carrier makes a required showing. To receive recognition of its avoided cost of litigation a carrier must demonstrate, in a request for special relief, the avoided costs of litigation by showing the amount corresponding to the additional litigation expenses discounted to present value, that the carrier reasonably estimates it would have paid if it had not settled. Settlement costs in excess of the avoided costs of litigation are presumed not recoverable unless a carrier rebuts that presumption by showing the basic factors that enticed the carrier to settle and demonstrating that ratepayers benefited from the settlement.

Federal Communications Commission.
Marlene H. Dortch,
Secretary, Office of the Secretary, Office of Managing Director.

[FR Doc. 2012-11596 Filed 5-11-12; 8:45 am]

BILLING CODE 6712-01-P